DEPARTMENT OF COMMERCE

National Oceanic and Atmospheric Administration

50 CFR Parts 600 and 660

[Docket No. 001226367-0367-01; I.D. 062601A]

Fisheries off West Coast States and in the Western Pacific; Pacific Coast Groundfish Fishery; Trip Limit Adjustments

AGENCY: National Marine Fisheries Service (NMFS), National Oceanic and Atmospheric Administration (NOAA), Commerce.

ACTION: Trip limit adjustments; fishing restrictions for the Pacific Coast groundfish fishery; request for comments.

SUMMARY: NMFS announces changes in the following trip limits for the Pacific Coast groundfish fisheries: Limited entry trawl and fixed gear for minor slope rockfish north and south; limited entry trawl and fixed gear for splitnose rockfish south; limited entry trawl and fixed gear for Pacific Ocean perch (POP); limited entry trawl and fixed gear for Dover sole north and south; limited entry trawl and fixed gear for flatfish north; limited entry trawl for yellowtail rockfish north; limited entry trawl for widow rockfish taken with mid-water trawl gear; and limited entry fixed gear and open access for sablefish north. These actions, which are authorized by the Pacific Coast Groundfish Fishery Management Plan (FMP), are intended to help the fisheries achieve optimum yield (OY) while protecting overfished and depleted stocks.

DATES: Changes to management measures are effective 0001 hours (local time) July 1, 2001, unless modified, superseded, or rescinded. These changes are effective until the effective date of the 2002 annual specifications and management measures for the Pacific Coast groundfish fishery, which will be published in the Federal Register. Comments on this rule will be accepted through July 20, 2001.

ADDRESSES: Submit comments to Donna Darm, Acting Administrator, Northwest Region (Regional Administrator), NMFS, 7600 Sand Point Way N.E., Bldg. 1, Seattle, WA 98115-0070; or Rebecca Lent, Administrator, Southwest Region, NMFS, 501 West Ocean Blvd., Suite 4200, Long Beach, CA 90802-4213.

FOR FURTHER INFORMATION CONTACT: Yvonne deReynier or Becky Renko, Northwest Region, NMFS, 206-526-6140.

SUPPLEMENTARY INFORMATION: The following changes to current management measures were recommended by the Pacific Fishery Management Council (Council,) in consultation with the States of Washington, Oregon, and California, at its June 11-15, 2001, meeting in San Francisco, CA. Pacific Coast groundfish landings will be monitored throughout the year, and further adjustments to the trip limits will be made as necessary to stay within the OYs and allocations announced in the annual specifications and management measures for the groundfish fishery, published in the Federal Register at 66 FR 2338 (January 11, 2001), as amended at 66 FR 10208 (February 14, 2001), at 66 FR 18409 (April 9, 2001), at 66 FR 22467 (May 4, 2001), and at 66 FR 286767 (May 24, 2001).

Limited Entry Trawl and Fixed Gear for Minor Slope Rockfish North and South of 40°10′ N. Lat.

Landings of minor slope rockfish in the limited entry fisheries south and north of 40°10′ N. lat. have been slow during the first half of 2001. The best available information indicates that the southern limited entry fishery had landed 18.9 percent and the northern fishery had landed 7.1 percent of the minor slope rockfish set-asides for those fisheries, through the end of April. Given the low landings rates, the Council recommended increasing the limited entry minor slope rockfish cumulative landing limits for both the trawl and fixed gear fisheries. The cumulative landing limits for the fishery south of 40°10′ N. lat. will be increased from 14,000 lb (6350 kg) to 25,000 lb (11,340 kg) per 2 months, and the cumulative landing limits for the northern fishery will increase from 1,500 lb (68 kg) to 2,000 lb (907 kg) per 2 months. These increased cumulative landing limits will allow for higher landings without exceeding the OYs for overfished and depleted stocks.

On January 11, 2001 (66 FR 2338), NMFS announced that darkblotched rockfish was overfished. Although only 7.1 percent of the northern slope rockfish had been landed through April, concerns about darkblotched rockfish catch resulted in only minor increases in the limits for the fisheries north of 40°10′ N. lat rather than the larger cumulative landing limits that could have been allowed. Because darkblotched rockfish is not a major component of the slope rockfish assemblage south of 40°10′ N. lat., larger increases were recommended for the southern area.

Limited Entry Trawl and Fixed Gear for Splitnose Rockfish South of 40°10′ N. Lat.

As with minor slope rockfish, landings of splitnose rockfish in the limited entry fishery south of 40°10' N. lat. have been slow during the first half of 2001. The best available information indicated that limited entry trawl and fixed gear fisheries had landed 3.1 percent of splitnose rockfish set-aside for those fisheries, through the end of April. Given the low landing rates, the Council recommended increasing cumulative landing limits to levels that would allow higher landings without exceeding the OYs for overfished and depleted stocks. The Council recommended increasing the limited entry splitnose slope rockfish cumulative landing limits for both trawl and fixed gear south of 40°10′ N. lat. from 14,000 lb (6,350 kg) to 25,000 lb (11,340 kg) per 2 months.

Limited Entry Trawl and Fixed Gear for POP

Previously published trip limits for POP were intended to accommodate the increased incidental catch of POP during the summer months by increasing the monthly cumulative landing limits for the May through October periods. Because landings of POP in the limited entry trawl and fixed gear fisheries have been slower than expected, with only 18.4 percent of the allowance landed through the end of April 2001, the Council recommended increasing cumulative landing limits for the remainder of the year. The limited entry POP cumulative landing limits for both trawl and fixed gear will be increased from 2,500 lb (1,134 kg) to 3,500 lb (1,588 kg) per month for the July through October periods, then decreased, as previously announced to 1,500 lb (680 kg) per month for the November and December periods. The increased cumulative landing limits will allow higher landings without exceeding the POP OY or the OYs established for other overfished or depleted stocks.

Limited Entry Trawl and Fixed Gear for Dover Sole North and South of 40°10′ N. Lat.

During the first 4 months of 2001, the limited entry trawl and fixed gear Dover sole cumulative landing limits north of 40°10' N. lat. were set at 65,000 lb (2,948 kg) per 2 months and the cumulative landing limits south of 40°10′ N. lat. were set at 35,000 lb (15,876 kg) per 2 months. The cumulative landing limits were set higher in the northern area to allow for the harvest of winter concentrations of Dover sole at a time when they are not closely associated with depleted or overfished rockfish species. Under these cumulative landing limits, 1,700 mt were landed during the first 2 months and 2,500 mt were landed during the second 2 months. The best available information indicated that the limited entry fisheries had landed 57.5 percent of the Dover sole allowance through the end of April 2001. In May, the northern limit was reduced to 20,000 lb (9,072 kg) per 2 months, while the southern limit remained at 35,000 lb (15,876 kg) per 2months. Despite the reduced limits in the northern area, the coastwide landings of Dover sole remained higher than expected. In response to the rapid pace of Dover sole landings, the Council recommended reducing the trawl and fixed gear limits in both areas by 5,000 lb (2,268 kg) per 2 months, resulting in a Dover sole limit of 15,000 lb (6,804 kg) per 2 months for the area north of 40°10′ N. lat. and a Dover sole limit of 30,000 lb (13,608 kg) per 2 months for the area south of 40°10′ N. lat. For the September through December periods, the 2 month limits will be converted to monthly limits.

Limited Entry Trawl and Fixed Gear for Flatfish North of 40°10′ N. Lat.

In April, the Council adopted an interim change in the trip limits for the limited entry trawl fishery for flatfish north of 40°10′ N. lat. This limit allowed up to 50,000 lb (22,680 kg) per month of non-Dover flatfish, caught with a small footrope, to be landed providing that no more than 15,000 lb (6,804 kg) of petrale sole and 10,000 lb (4,536 kg) of arrowtooth flounder are landed. The sub-limits were established as a measure to restrict harvest of canary rockfish, which was designated as overfished on January 4, 2000 (65 FR 221). To reduce the discard of incidentally caught arrowtooth flounder, without encouraging targeting, the Council recommended changing the structure of northern flatfish trawl and fixed gear limits from July through October. The small footrope trawl limit is decreased from 50,000 lb (22,680 kg) to 45,000 lb (20,412 kg) per month; the sub-limit for petrale sole remains at 15,000 lb (6,804 kg) per month. In addition, the arrowtooth flounder limit is no longer a sub-limit and is changed from a per month limit of 10,000 lb (4,536 kg) to a per trip limit of no more than 7,500 lb (3,402 kg), not to exceed 30,000 lb (13,608 kg) per month. The large footrope limit for arrowtooth flounder remains at 5,000 lb (2,268 kg) per trip, not to exceed 30,000 lb (13,608 kg) per month; petrale sole which has been prohibited, is increased to 100 lb (45 kg per trip and all other flatfish remains at 1,000 lb (454 kg) per trip. Although flatfish are rarely taken with fixed gear, the Limited Entry Fixed gear limits for flatfish will be the same as the small footrope trawl limits.

Limited Entry Trawl for Yellowtail Rockfish North of 40°10′ N. lat. and Widow Rockfish

The best available information indicates that 59.0 percent of the limited entry widow rockfish coastwide and 52.3 percent of the yellowtail rockfish north of 40°10' N. lat. had been landed through the end of April. To reduce the likelihood of reaching the widow rockfish OY early, the mid-water trawl option for widow rockfish and yellowtail rockfish north will be restricted to the small footrope limit for the July through September periods. At its September meeting, the Council intends to review the October yellowtail limits of 15,000 lb (6,804 kg) per month, and the widow rockfish limits of 10,000 lb (4,536 kg) per month. If necessary, the Council will adjust these limits to keep landings within the OYs. The small footrope limits for both species will remain unchanged at 1,000 lb (454 kg) per month for widow rockfish and 1,500 (680 kg) per month for yellowtail rockfish that is not taken as flatfish bycatch.

To allow for incidental catch of widow rockfish and yellowtail rockfish taken during the primary whiting fishery, whiting fishers will be allowed to land cumulative landing limits that are twice the amount of the small footrope limits, providing that at least 10,000 lb (4,536 kg) of whiting are landed in the same trip. In addition, a per trip limit of 500 lb (227 kg) for widow and yellowtail rockfish combined will apply. Widow and yellowtail rockfish in excess of these amounts will be forfeited to the states by fishers operating under an exempted fishing permit.

Limited Entry Fixed Gear and Open Access for Sablefish North of 36° N. Lat.

Daily trip limit sablefish landings in both the limited entry fixed gear and open access fisheries were relatively low through the spring months. The best available information at the June Council meeting indicated that 24.5 percent of the limited entry fixed gear and open access sablefish allocations combined had been landed through May 2001. Since January, both fisheries have operated under landing limits of 300 lb (136 kg) per day, not to exceed 2,700 lb (1,225 kg) per 2 months. To allow fisheries access to sablefish allocations during the more active summer fishing months, when more small vessels participate in the fishery, the Council recommended re-instating a once per week delivery option. The landing limits for the limited entry fisheries north of 36° N. lat. for the July to August periods will be 300 lb (136 kg) per day or one landing per week up to 900 lb (408 kg), not to exceed 3,600 lb (1,633 kg) per 2 months. Beginning on September 1, a monthly limit of 1,800 lb (816 kg) per month will become effective. The landing limits for the open access fisheries north of 36° N. lat. for the July through periods will be 300 lb (136 kg) per day or one landing per week up to 800 lb (363 kg), not to exceed 4,800 lb (2,177 kg) per 2 months. Beginning on September 1, 2001, a monthly limit of 2,400 lb (1,089 kg) per month will become effective.

NMFS Actions

For the reasons stated here, NMFS concurs with the Council’s recommendations and announces the following changes to the 2001 annual management measures at 66 FR 2338, January 11, 2001, as amended at 66 FR 10208, February 14, 2001; 66 FR 18409, April 9, 2001; 66 FR 22467, May 4, 2001, and 66 FR 28676, May 24, 2001, to read as follows:

(1) In Section IV, under B. Limited Entry Fishery Tables 3 and 4 are revised; in Section IV, under C. Trip Limits in the Open Access Fishery, Table 5 is revised.

IV. NMFS Actions

B. Limited Entry Fishery

* * * * *

BILLING CODE 3510-22-S

* * * * *

C. Trip limits in the Open Access Fishery

* * * * *

BILLING CODE 3510-22-C

Classification

These actions are authorized by the regulations implementing the FMP and the annual specifications and management measures published at 66 FR 2338 (January 11, 2001), as amended at 66 FR 10208 (February 14, 2001), at 66 FR 18409 (April 9, 2001), at 66 FR 22467 (May 4, 2001), and at 66 FR 286767 (May 24, 2001), and are based on the most recent data available.

The Assistant Administrator for Fisheries, NOAA, (AA) finds good cause to waive the requirement to provide prior notice and comment on this action pursuant to 5 U.S.C. 553 (b)(3)(B), providing prior notice and opportunity for comment would be impracticable. It would be impracticable because the groundfish cumulative landing limit period begins on July 1, 2001, and affording additional notice and opportunity for public comment would impede the agency’s responsibility under the FMP for managing fisheries to achieve OY. Increases to trip limits relieve restrictions on the public and decreases to trip limits must be implemented in a timely manner to stretch the season out as long as possible through the year, which is a major goal of the FMP. If the changes were delayed, a fisher may not be able to achieve the higher limit allowed during this cumulative landing limit period; thereby unnecessarily restricting the fisher. For species where cumulative landing limits have been lowered, a fisher may be able to achieve the pre-existing higher limits, and thus frustrate the conservation objectives of the cumulative landing limit changes, or force further reductions for the entire fleet later in the season. In short, the benefits to be obtained by making new limits effective during this cumulative landing limit period (either additional fish available to the fisher, or reduced limits to protect a species) would not be available during this cumulative landing limit period.

In addition, the affected public had the opportunity to comment on these actions at the June 2001 Council meeting. For these reasons, good cause also exists to waive the 30-day delay in effectiveness requirement of 5 U.S.C. 553(d)

These actions are taken under the authority of 50 CFR 660.323 (b)(1), and are exempt from review under Executive Order 12866.

Authority: 16 U.S.C. 1801 et seq.

Dated: June 29, 2001.
Richard W. Surdi,
Acting Director, Office of Sustainable Fisheries, National Marine Fisheries Service.

[FR Doc. 01-16801 Filed 6-29-01; 2:26 pm]

BILLING CODE 3510-22-S